DEPARTMENT OF ENERGY

Federal Energy Regulatory Commission

[Project No. 96-048]

Pacific Gas and Electric Company; Notice of Application Accepted for Filing, Soliciting Motions To Intervene and Protests, Ready for Environmental Analysis, and Soliciting Comments, Recommendations, Preliminary Terms and Conditions, and Preliminary Fishway Prescriptions

Take notice that the following license application has been filed with the Commission and is available for public inspection.

a. Type of Application: New Major License.

b. Project No.: 96-048.

c. Date filed: November 24, 2020.

d. Applicant: Pacific Gas and Electric Company (PG&E).

e. Name of Project: Kerckhoff Hydroelectric Project (Kerckhoff Project).

f. Location: The existing project is located on the San Joaquin River, in Fresno and Madera Counties, California. The project occupies 328.1 acres of Federal land administered by the United States Forest Service and Bureau of Land Management.

g. Filed Pursuant to: Federal Power Act 16 U.S.C. 791(a)-825(r).

h. Applicant Contact: Mr. Dave Gabbard, Vice President, Pacific Generation Pacific Gas and Electric Company, 300 Lakeside Drive, Oakland, CA 94612.

i. FERC Contact: Evan Williams, (202) 502-8462, evan.williams@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Kerckhoff Hydroelectric Project (P-96-048).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

l. The existing Kerckhoff Project consists of: (1) a 175-acre, 3-mile-long impoundment at normal full pond elevation 985.0 feet; (2) a 114.5-foot-high, 507-foot-long concrete arch dam with a spillway crest of 91 feet that includes: (a) fourteen 14.3-foot-high by 20-foot-wide radial gates, and (b) three 72-inch-diameter low-level outlet pipes at an elevation of 897.0 feet, with a maximum combined discharge capacity of 3,900 cubic feet per second; (3) a 75-foot-long, 18-inch-diameter instream flow pipe; (4) two powerhouse facilities (Kerckhoff 1 and Kerckhoff 2); and (5) appurtenant facilities.

The Project's Kerckhoff 1 (K1) powerhouse and associated facilities include: (1) a 73.3-foot-high, 29.5-foot by 26-foot-wide reinforced concrete intake structure located in Kerckhoff Reservoir; (2) a 16,913-foot-long, 17-foot-wide by 17-foot-high unlined tunnel; (3) two approximately 120-foot-long, 20-foot in cross section adits; (4) one approximately 507.5-foot-long, 16- to-18-foot in cross section adit; (5) a 75-foot-high, unlined vertical shaft surge chamber with a 40-foot maximum diameter lower section and 17-foot maximum diameter upper section; (6) one 913-foot-long, 84-to- 96-inch-diameter steel penstock; (7) one 946-foot-long, 84-to- 96-inch-diameter steel penstock; (8) an approximately 45-foot-wide by 99-foot-long reinforced concrete powerhouse containing three vertical reaction-type Francis turbine units; and (9) appurtenant facilities. The project's K1 transmission facilities include: (1) a switchyard located on a steep hillside immediately behind the powerhouse; (2) two transformer banks consisting of one, three-phase and seven, single-phase 6.6/115-kilovolt (kV) transformers; and (3) three, 115-kV circuit breakers. Three sets of non-project 115-kV transmission lines exit the switchyard.

K1 Powerhouse Unit No. 2 is not operational and was removed from the current project license in 2013. K1 Powerhouse Units No. 1 and No. 3 are rated at 11.36 megawatts (MW) each for an authorized installed capacity of 22.72 MW; however, both units have not operated since 2017. The three adits were sealed with concrete walls about 200 feet from their entrances, effectively eliminating access to the adits and to the tunnel via the adits. K1 penstock No. 2 is no longer operational; it was abandoned in place and removed from the current project license in 2013. PG&E permanently closed and sealed the main shutoff and bypass valves at K1 penstock No. 2, removed an approximately 12-foot-long section of the penstock immediately downstream of the shutoff valve, removed exposed air valves and cap, and permanently closed the turbine shutoff valve.

The project's Kerckhoff 2 (K2) powerhouse and associated facilities include: (1) a 63-foot-high, 43-foot by 52-foot-wide reinforced concrete intake structure located in Kerckhoff Reservoir; (2) a 21,632-foot-long, 24-foot-diameter unlined tunnel; (3) an 8-foot-diameter adit tunnel; (4) a 216.8-foot-high, vertical shaft surge chamber composed of a 20-foot-diameter lower section, a 71-foot-diameter middle section, and a 110-foot-diameter upper section, capped at the surface by a 34-foot-high, 111.5-foot-diameter above-ground steel surge tank; (5) one approximately 1,013-foot-long penstock composed of three sections: (a) a 481-foot-long, 20-foot-diameter concrete-lined upper section; (b) a 338-foot-long, 18-foot-diameter concrete-lined middle section; and (c) a 194-foot-long, 15-foot-diameter steel-lined lower section; (6) an approximately 85-foot-diameter, 124-foot-high three-floor (basement floor, turbine floor, and generator floor) underground powerhouse chamber containing one vertical shaft, Francis-type turbine rated at 140 MW; (7) an approximately 531-foot-long, 25-foot-diameter concrete-lined discharge tunnel, with two 19-foot-high, 13-foot-wide gates; (8) a 40-foot-wide open tailrace channel; and (9) appurtenant facilities. The project's K2 transmission facilities include: (1) an approximately 152-foot-wide by 177-foot-long switchyard located at ground level immediately above the underground powerhouse; (2) a transformer; and (3) four, 115-kV circuit breakers. Two sets of non-project 115-kV transmission lines exit the switchyard. From 1984 to 2019, with both powerhouses in operation, average annual generation was approximately 471,424 megawatt-hours.

PG&E operates the project for power generation, making use of available flows from upstream hydroelectric projects. The project operates in a run-of-river mode because of the project reservoir's limited storage capacity. Water used by the project for power generation is released back into the San Joaquin River and flows into Millerton Lake, a United States Bureau of Reclamation facility, located immediately downstream of the K2 Powerhouse.

The San Joaquin River basin upstream of the project is extensively developed for hydroelectric power generation, which influences the timing and magnitude of inflows into the project. Current operational requirements include flow requirements to protect American shad and water temperature requirements to protect smallmouth bass. PG&E is required to discharge a minimum flow of 25 cubic feet per second (cfs) downstream of Kerckhoff Dam during normal water years and a minimum flow of 15 cfs during dry water years. Minimum flows are temporarily modified in response to operating emergencies and for fishery management purposes upon agreement between PG&E and the California Department of Fish and Wildlife (CDFW). Additional releases can be determined necessary by CDFW to maintain stream temperatures and to flush sediments in the streambed below Kerckhoff Dam. Kerckhoff Reservoir has an estimated capacity of 2,434 acre-feet of usable capacity at normal maximum water surface elevation and is generally operated as a forebay with no seasonal targets, therefore maintaining storage relatively constant at near full pool. Although, operational limitations of the K2 Powerhouse result in an operational storage of the reservoir of 692 acre-feet. PG&E has primarily operated the K1 Powerhouse only when the K2 Powerhouse is offline, at capacity, or during the American shad spawning releases; although, the K1 Powerhouse has not been operational since 2017. The K2 Powerhouse has a rough operating zone that occurs during flows of approximately 1,750 cfs to 3,200 cfs that generate 45-92 MW. To manage the rough operating zone, PG&E does not allow the unit to linger in the 45-92 MW range. Instead, the K2 Powerhouse operates above or below the range, in order to avoid damaging equipment. Further, the K2 Powerhouse cannot operate with flows less than approximately 580 cfs.

PG&E proposes to modify the existing project boundary to encompass all land and facilities necessary for operation and maintenance of the project and remove land and facilities that are not necessary for operation and maintenance of the project. PG&E proposes to decrease the boundary around Kerckhoff Reservoir and Dam, Smalley Cove Recreation Area and the adjacent dispersed day use area, the K1 and K2 developments, A.G. Wilson powerhouse that includes a non-project 12-kilvolt line and telephone line, the fiber optics and 12-kV distribution lines running from the K2 Switchyard to a non-project substation, and Access Road 6. PG&E proposes to increase the boundary to encompass the J-2 gage site and its associated facilities, the K2 Penstock Construction Access Tunnel Drainage Channel, the upstream extent of Kerckhoff Reservoir at its normal maximum surface water elevation, the proposed, currently-named Vista Day Use Area, the proposed San Joaquin River above Kerckhoff Reservoir Inflow Gage, and at various locations around project facilities to facilitate vegetation management activities. With these proposed changes, the area of PG&E-owned land within the project boundary will decrease to 125.6 acres, and Federal lands will decrease to 227.6 acres. The area of private lands encompassed by the project boundary will increase to 49.4 acres.

PG&E proposes to retire the K1 Powerhouse by making certain facilities, including turbine-related facilities, Adits 1 and 2, surge chamber, penstocks, and headworks, inoperable. However, PG&E proposes to retain, as operable for ongoing project operation and maintenance, the: (1) K1 intake structure, tunnel, and North Adit to continue providing instream flow releases; (2) the K1 Powerhouse building for operations support; and (3) the K1 switchyard because it is part of the electric transmission system. PG&E does not propose modifications to the project boundary to remove the K1 powerhouse or associated facilities.

PG&E proposes to construct a new recreation day use area (currently named the Vista Day Use Area) with a connecting trail to BLM's existing San Joaquin River Trail.

PG&E proposes to install one new flow gage upstream of Kerckhoff Reservoir and downstream of Southern California Edison's Big Creek No. 4 Powerhouse within 4 years of license issuance to measure San Joaquin River flow data at the location and provide data publicly on the internet.

PG&E proposes to upgrade two currently manually operated radial gates on the Kerckhoff Dam to be automatically operated adding a remote terminal unit to connect to the supervisory control and data acquisition (or SCADA) system, which would include upgrading the electronic communications, programming automatic control of the K2 Powerhouse, and calibrating the upgraded gates; and adding a generator to provide backup power.

PG&E further proposes the following plans and measures to protect and enhance environmental resources: (1) Proposed Retirement Plan for Kerckhoff 1 Powerhouse and Associated Facilities; (2) American Shad Spawning Season Flow Release Regime Measure; (3) Aquatic Resources Plan; (4) Water Temperature Measure; (5) End-of-Spill Flow Recession and Whitewater Flow Releases Measure; (6) Subsequent Spill Ramp Down Measure; (7) Spill Season Flow Measure; (8) Planned Outage Measure; (9) Flow Notifications Measure; (10) San Joaquin River above Kerckhoff Reservoir Inflow Gage Measure; (11) Modification of Infrastructure and Procedures Measure; (12) Wildlife Management Plan; (13) Vegetation Management and Pest Control Plan; (14) Project Road and Trail Maintenance Plan; (15) Recreation Management Plan; (16) Whitewater Notification and Access Measure and (17) Historic Properties Management Plan.

m. A copy of the application can be viewed on the Commission's website at http://www.ferc.gov using the “eLibrary” link. Enter the docket number excluding the last three digits in the docket number field to access the document. For assistance, contact FERC Online Support at FERCOnlineSupport@ferc.gov or call toll-free, (866) 208-3676 or (202) 502-8659 (TTY).

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

The Commission's Office of Public Participation (OPP) supports meaningful public engagement and participation in Commission proceedings. OPP can help members of the public, including landowners, environmental justice communities, Tribal members, and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

n. The applicant must file no later than 60 days following the date of issuance of this notice either: (1) evidence of the date on which the certifying agency received the certification request; (2) a copy of the water quality certification; or (3) evidence of waiver of water quality certification.

o. Procedural schedule: The application will be processed according to the following schedule. Revisions to the schedule will be made as appropriate.

Milestone | Target date
Deadline for Filing Comments, Recommendations, and Agency Terms and Conditions/Prescriptions | August 2024.
Licensee's Reply to REA Comments | October 2024.

p. Final amendments to the application must be filed with the Commission no later than 30 days from the issuance date of this notice.

Dated: June 27, 2024.
Debbie-Anne A. Reese,
Acting Secretary.

[FR Doc. 2024-14671 Filed 7-2-24; 8:45 am]

BILLING CODE 6717-01-P